DEPARTMENT OF COMMERCE

International Trade Administration

(A-485-805)

Certain Small Diameter Carbon and Alloy Seamless Standard, Line, and Pressure Pipe from Romania: Preliminary Results of Antidumping Duty Administrative Review

AGENCY: Import Administration, International Trade Administration, Department of Commerce.

EFFECTIVE DATE: January 10, 2006.

SUMMARY: In response to requests by Duferco Steel Inc. (Duferco), an importer of subject merchandise, and United States Steel Corporation (the petitioner), the Department of Commerce (the Department) is conducting an administrative review of the antidumping duty order on certain small diameter carbon and alloy seamless standard, line, and pressure pipe (seamless pipe) from Romania. The period of review (POR) is August 1, 2004, through July 31, 2005.

The respondent, S.C. Silcotub S.A. (Silcotub), informed the Department that it would not be participating in the review. Accordingly, we preliminarily determine that the application of adverse facts available is warranted with respect to Silcotub.

FOR FURTHER INFORMATION CONTACT: Janis Kalnins at (202) 482-1392 or John Holman at (202) 482-3683, AD/CVD Operations, Office 5, Import Administration, International Trade Administration, U.S. Department of Commerce, 14th Street and Constitution Avenue, NW, Washington, DC 20230.

SUPPLEMENTARY INFORMATION:

Background

On August 10, 2000, the Department published an antidumping duty order on seamless pipe from Romania. See Notice of Amended Final Determination of Sales at Less Than Fair Value and Antidumping Duty Order: Certain Small Diameter Carbon and Alloy Seamless Standard, Line, and Pressure Pipe From Romania, 65 FR 48963 (August 10, 2000) (Amended Final).

On August 1, 2005, the Department published a notice of opportunity to request an administrative review of this order. See Antidumping or Countervailing Duty Order, Finding, or Suspended Investigation; Opportunity to Request Administrative Review, 70 FR 44085. In accordance with 19 CFR 351.213(b)(3), on August 30, 2005, Duferco requested that the Department conduct an administrative review of Silcotub. On August 31, 2005, the petitioner requested a review of Silcotub. On September 28, 2005, the Department published a notice of initiation of administrative review of the antidumping duty order on seamless pipe from Romania covering the period August 1, 2004, through July 31, 2005. See Initiation of Antidumping and Countervailing Duty Administrative Reviews and Request for Revocation in Part, 70 FR 56631.

On September 26, 2005, the Department issued its questionnaire¹ to Silcotub. Because we had reason to believe or suspect that Silcotub made sales at prices below the cost of production during the review, we initiated a sales-below-cost inquiry in order to determine whether Silcotub made sales during the POR at below-cost prices.² See, e.g., Notice of Preliminary Results and Partial Rescission of Antidumping Duty Administrative Review and Intent To Revoke Antidumping Duty Order in Part: Certain Pasta From Italy, 66 FR 34414, 34415 (June 28, 2001). Silcotub did not respond by the deadline of November 2, 2005. In a November 28, 2005, letter, Silcotub informed the Department that it was declining to participate in the administrative review.

¹ Section A of the questionnaire requests general information concerning a company's corporate structure and business practices, the merchandise under review that it sells, and the manner in which it sells that merchandise in all of its markets. Section B requests a complete listing of all home-market sales or, if the home market is not viable, of sales in the most appropriate third-country market (this section is not applicable to respondents in non-market-economy cases). Section C requests a complete listing of U.S. sales. Section D requests information on the cost of production of the foreign like product and the constructed value of the merchandise under review.

² In the 2002-03 administrative review, the Department disregarded Silcotub's home-market sales that failed the cost test. See Notice of Final Results of Antidumping Duty Administrative Review and Final Determination Not To Revoke Order in Part: Certain Small Diameter Carbon and Alloy Seamless Standard, Line, and Pressure Pipe From Romania, 70 FR 7237 (February 11, 2005) (2002-03 Final Results). Accordingly, the Department initiated a sales-below-cost inquiry in the 2003-04 administrative review. Silcotub withdrew its participation from that review without responding to the Department's cost-of-production questionnaire. See Certain Small Diameter Carbon and Alloy Seamless Standard, Line, and Pressure Pipe from Romania: Final Results of Antidumping Duty Administrative Review and Final Determination Not to Revoke Order in Part, 70 FR 41206 (July 18, 2005) (2003-04 Final Results). As a result, the Department used adverse facts available in determining the margin for Silcotub in that review. Id.

Scope of the Order

The products covered by the order are seamless carbon and alloy (other than stainless) steel standard, line, and pressure pipes and redraw hollows produced, or equivalent, to the ASTM A-53, ASTM A-106, ASTM A-333, ASTM A-334, ASTM A-335, ASTM A-589, ASTM A-795, and the API 5L specifications and meeting the physical parameters described below, regardless of application. The scope of the order also includes all products used in standard, line, or pressure pipe applications and meeting the physical parameters described below, regardless of specification. Specifically included within the scope of the order are seamless pipes and redraw hollows, less than or equal to 4.5 inches (114.3 mm) in outside diameter, regardless of wall-thickness, manufacturing process (hot finished or cold-drawn), end finish (plain end, beveled end, upset end, threaded, or threaded and coupled), or surface finish.

The seamless pipes subject to the order are currently classifiable under the subheadings 7304.10.10.20, 7304.10.50.20, 7304.31.30.00, 7304.31.60.50, 7304.39.00.16, 7304.39.00.20, 7304.39.00.24, 7304.39.00.28, 7304.39.00.32, 7304.51.50.05, 7304.51.50.60, 7304.59.60.00, 7304.59.80.10, 7304.59.80.15, 7304.59.80.20, and 7304.59.80.25 of the Harmonized Tariff Schedule of the United States (HTSUS).

Although the HTSUS subheadings are provided for convenience and customs purposes, our written description of the merchandise subject to the scope of this order is dispositive. For further information on merchandise subject to this order, see Certain Small Diameter Carbon and Alloy Seamless Standard, Line, and Pressure Pipe from Romania: Preliminary Results of Antidumping Duty Administrative Review and Preliminary Determination Not to Revoke in Part, 70 FR 24520 (May 10, 2005).

Use of Facts Available

In accordance with section 776(a) of the Tariff Act of 1930, as amended (the Act), we preliminarily determine that the use of facts available as the basis for the weighted-average dumping margin is appropriate for Silcotub. Silcotub did not submit a response to our antidumping duty questionnaire. Consequently, we find that it has withheld “information that has been requested by the administering authority” under section 776(a)(2)(A) of the Act and we must use facts otherwise available to assign a margin to Silcotub.

In accordance with section 776(b) of the Act, we are making an adverse inference in our application of the facts available. This is appropriate because Silcotub did not provide responses to our questionnaire, which are necessary for us to complete our margin calculations. Therefore, we find that Silcotub has not acted to the best of its ability in providing us with relevant information which is under its control.

In selecting an adverse facts available rate, the Department's practice has been to assign respondents that fail to cooperate with the Department the highest margin determined for any party in the less-than-fair-value (LTFV) investigation or in any administrative review of the proceeding. See Sigma Corp. v. United States, 117 F.3d 1401,1411 (Fed. Cir. 1997). As such, we have preliminarily assigned Silcotub an adverse facts available rate of 15.15 percent, which is the LTFV weighted-average margin we calculated for Silcotub during the original investigation. See Amended Final.

Section 776(c) of the Act provides that, to the extent practicable, the Department shall corroborate secondary information from independent sources reasonably at its disposal. The Statement of Administrative Action accompanying the Uruguay Round Agreements Act, H.R. Doc. 103-316, at 870 (1994) (SAA), clarifies that the final determination concerning the subject merchandise is “secondary information” and states that “corroborate” means to determine that the information used has probative value. See SAA at 870.

As explained in Tapered Roller Bearings and Parts Thereof, Finished and Unfinished, from Japan, and Tapered Roller Bearings, Four Inches or Less in Outside Diameter, and Components Thereof, from Japan; Preliminary Results of Antidumping Duty Administrative Reviews and Partial Termination of Administrative Reviews, 61 FR 57391, 57392 (November 6, 1996), in order to corroborate secondary information, the Department will examine, to the extent practicable, the reliability and relevance of the information used. Unlike other types of information, such as input costs or selling expenses, there are no independent sources from which the Department can derive calculated dumping margins. The only source for margins is administrative determinations. Thus, with respect to an administrative review, if the Department chooses as facts available a calculated dumping margin from a prior segment of the proceeding, it is not necessary to question the reliability of the margin for that time period. We also find that this rate, calculated from a prior segment of the proceeding and used in the prior administrative review,³ is relevant.

³ After withdrawing its participation from the 2003-04 administrative review, Silcotub was assigned, as adverse facts available, the LTFV weighted-average rate of 15.15 percent. See 2003-04 Final Results.

The data upon which the Department relied in calculating the 15.15 rate in the LTFV investigation was that of Silcotub and Sota Communication Company. During the period of investigation, Silcotub produced the product which Sota Communication Company sold to the United States. Therefore, we examined for the LTFV investigation Silcotub's factor-of-production information in our calculation of the 15.15 percent rate. See Notice of Preliminary Determination of Sales at Less Than Fair Value and Postponement of Final Determination: Certain Small Diameter Carbon and Alloy Seamless Standard, Line, and Pressure Pipe from Romania, 65 FR 5594 (February 4, 2000).

Furthermore, there is no information on the record that calls into question the validity of this rate. Therefore, we find that this rate is corroborated to the extent practicable. Also, we find that this rate is sufficiently high as to reasonably ensure that Silcotub does not obtain a more favorable result by failing to cooperate. Accordingly, we determine that the rate of 15.15 percent, the highest weighted-average margin determined for any firm during any segment of this proceeding, is in accordance with the requirements of section 776(c) of the Act.

Preliminary Results of Review

As a result of our review, we preliminarily determine that the dumping margin for S.C. Silcotub S.A. for the period August 1, 2004, through July 31, 2005, is 15.15 percent.

Any interested party may request a hearing within 30 days of the date of publication of this notice. Any hearing, if requested, will be held approximately 37 days after the publication of this notice. Issues raised in hearings will be limited to those raised in the case and rebuttal briefs. Interested parties may submit case briefs within 30 days of the date of publication of this notice. Rebuttal briefs, which must be limited to issues raised in the case briefs, may be filed not later than 35 days after the date of publication of this notice. Parties who submit case briefs or rebuttal briefs in this review are requested to submit with each argument (1) A statement of the issue, (2) a brief summary of the argument, and (3) a table of authorities. Parties are also requested to submit such arguments, and public versions thereof, with an electronic version on a diskette.

Upon publication of the final results of this review, the Department will instruct U.S. Customs and Border Protection (CBP) to assess antidumping duties on all appropriate entries. Because we are applying adverse facts available to all exports of subject merchandise produced or exported by Silcotub, we will instruct CBP to assess the final percentage margin against the entered customs values on all applicable entries during the period of review.

Further, the following deposit requirements will be effective upon completion of the final results of this administrative review for all shipments of seamless pipe from Romania entered, or withdrawn from warehouse, for consumption on or after the publication date of the final results, as provided by section 751(a)(2)(C) of the Act: (1) The cash-deposit rate for Silcotub will be the rate established in the final results of this review; (2) for previously reviewed or investigated companies not covered by this review, the cash-deposit rate will continue to be the company-specific rate published for the most recent period; (3) if the exporter is not a firm covered by this review, a prior review, or the original LTFV investigation but the manufacturer is, the cash-deposit rate will be the rate established for the most recent period for the manufacturer of the merchandise; (4) if neither the exporter nor the manufacturer is a firm covered in this or any previous review conducted by the Department, the cash-deposit rate will be 13.06 percent, the all-others rate established in the 2002-03 administrative review. See 2002-03 Final Results, 70 FR at 7239. These cash-deposit requirements, when imposed, shall remain in effect until publication of the final results of the next administrative review.

This notice also serves as a preliminary reminder to importers of their responsibility to file a certificate regarding the reimbursement of antidumping duties prior to liquidation of the relevant entries during this review period. Failure to comply with this requirement could result in the Secretary's presumption that reimbursement of antidumping duties occurred and the subsequent assessment of double antidumping duties.

This administrative review and notice are issued and published in accordance with sections 751(a)(1) and 777(i)(1) of the Act.

Dated: January 4, 2006.
David M. Spooner,
Assistant Secretary for Import Administration.

[FR Doc. E6-103 Filed 1-9-06; 8:45 am]

BILLING CODE 3510-DS-S